NUCLEAR REGULATORY COMMISSION

[NRC-2017-0218]

Information Collection: Physical Protection of Plants and Materials

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is titled, “Physical Protection of Plants and Materials.”

DATES: Submit comments by September 13, 2018.

ADDRESSES: Submit comments directly to the OMB reviewer at: OMB Office of Information and Regulatory Affairs (3150-0002), Attn: Desk Officer for the Nuclear Regulatory Commission, 725 17th Street, NW Washington, D.C. 20503; email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comment

A. Obtaining Information

Please refer to Docket ID NRC-2017-0218 when contacting the NRC about the availability of information for this action. You may obtain publicly-available information related to this action by any of the following methods:

• Federal rulemaking Website: Go to http://www.regulations.gov and search for Docket ID NRC-2017-0218.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement and burden spreadsheet are available in ADAMS under Accession Nos. ML158A157 and ML18158A159.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, D.C. 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, part 73 tile 10 of the Code of Federal Regulations (10 CFR), “Physical Protection of Plants and Materials.” The NRC hereby informs potential respondents that an agency may not conduct or sponsor, and that a person is not required to respond to, a collection of information unless it displays a currently valid OMB control number.

The NRC published a Federal Register notice with a 60-day comment period on this information collection on March 30, 2018, 83 FR 13801.

1. The title of the information collection: 10 CFR part 73, “Physical Protection of Plants and Materials.”

2. OMB approval number: 3150-0002.

3. Type of submission: Revision.

4. The form number, if applicable: Not applicable.

5. How often the collection is required or requested: Once for the initial submittal of Cyber Security Plans, Physical Security Plans, Safeguards Contingency Plans, and Security Training and Qualification Plans and then on occasion when changes are made. Required reports are submitted and evaluated as events occur.

6. Who will be required or asked to respond: Nuclear power reactor licensees licensed under 10 CFR parts 50 or 52 who possess, use, import, export, transport, or deliver to a carrier for transport, special nuclear material; actively decommissioning reactor licensees; Category I, Category II and Category III fuel facilities; nonpower reactors (research and test reactors); and other entities who mark and handle Safeguards Information.

7. The estimated number of annual responses: 177,986 (40,819 reporting responses + 136,957 third party disclosure responses + 210 record keepers.)

8. The estimated number of annual respondents: 210 (60 power reactors; 10 decommissioning reactor facilities; 3 Category I fuel facilities; 4 Category II and III fuel facilities; 31 nonpower reactors; and 102 other entities who mark and handle Safeguards Information.

9. The estimated number of hours needed annually to comply with the information collection requirement or request: 541,406 hours (22,591 reporting + 475,852 recordkeeping + 42,963 third party disclosure).

10. Abstract: The NRC regulations in 10 CFR part 73 prescribe requirements to establish and maintain a physical protection system and security organization with capabilities for protection of: (1) Special nuclear material (SNM) at fixed sites, (2) SNM in transit, and (3) plants in which SNM is used. Part 73 of 10 CFR contains reporting and recordkeeping requirements which are necessary to help ensure that an adequate level of protection is provided for nuclear facilities and nuclear material, such as: Development and maintenance of security documents including a physical security plan, a training and qualification plan, a safeguards contingency plan, a cyber security plan, and security implementing procedures; notifications to the NRC regarding safeguards and cyber security events; notifications to state governors and tribes of shipments of irradiated reactor fuel; and requirements for conducting criminal history records checks of individuals granted unescorted access to a nuclear power facility, a non-power reactor, or access to Safeguards Information. The objective is to ensure that activities involving special nuclear material are consistent with interests of common defense and security and that these activities do not constitute an unreasonable risk to public health and safety. The information in the reports and records submitted by licensees is used by the NRC staff to ensure that the health and safety of the public and the environment are protected, and licensee possession and use of special nuclear material is in compliance with license and regulatory requirements.

Dated at Rockville, Maryland, this 9th day of August, 2018.
For the Nuclear Regulatory Commission.
David Cullison,
NRC Clearance Officer, Office of the Chief Information Officer.

[FR Doc. 2018-17459 Filed 8-13-18; 8:45 am]

BILLING CODE 7590-01-P